DEPARTMENT OF COMMERCE

International Trade Administration

[A-533-823]

Silicomanganese From India: Preliminary Results of Antidumping Duty Administrative Review and Intent To Rescind, in Part; 2022-2023

AGENCY: Enforcement and Compliance, International Trade Administration, Department of Commerce.

SUMMARY: The U.S. Department of Commerce (Commerce) preliminarily determines that silicomanganese from India was sold in the United States at less than normal value during the period of review (POR) May 1, 2022, through April 30, 2023. Interested parties are invited to comment on these preliminary results.

DATES: Applicable June 11, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On May 23, 2002, Commerce published the antidumping duty order on silicomanganese from India.¹ On May 19, 2023, Commerce received a timely request to conduct an administrative review of the Order from Maithan Alloys Limited (MAL),² and on May 31, 2023, Eramet Marietta, Inc. (the petitioner) requested a review of MAL and Rajadhiraj Tirupani Vinayak Natraj Pvt. Ltd. (RTVN).³ On July 12, 2023, in accordance with 19 CFR 351.221(c)(i), Commerce initiated an administrative review of MAL and RTVN.⁴ Pursuant to section 751(a)(3)(A) of the Tariff Act of 1930, as amended (the Act), on January 26, 2024, Commerce extended the deadline for the preliminary results of this review until May 23, 2024.⁵

¹ See Notice of Amended Final Determination of Sales at Less than Fair Value and Antidumping Duty Orders: Silicomanganese from India, Kazakhstan, and Venezuela, 67 FR 36149 (May 23, 2002) (Order).

² See MAL's Letter, “Request for Administrative Review of Antidumping Order on behalf of Maithan Alloys Limited,” dated May 19, 2023.

³ See Petitioner's Letter, “Request for Administrative Review of Antidumping Duty Order,” dated May 31, 2023.

⁴ See Initiation of Antidumping and Countervailing Duty Administrative Reviews, 87 FR 42144 (July 14, 2022).

⁵ See Memorandum, “Extension of Deadline for Preliminary Results of Antidumping Duty Administrative Review,” dated January 26, 2024.

For a detailed description of the events that followed the initiation of this review, see the Preliminary Decision Memorandum.⁶ A list of topics discussed in the Preliminary Decision Memorandum is attached as an appendix to this notice. The Preliminary Decision Memorandum is a public document and is available via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Antidumping Duty Administrative Review: Silicomanganese from India; 2022-2023,” dated concurrently with, and hereby adopted by, this notice (Preliminary Decision Memorandum).

Scope of the Order

The products covered by this Order are all forms, sizes and compositions of silicomanganese, except low-carbon silicomanganese. For a full description of the scope of the Order, see the Preliminary Decision Memorandum.

Intent To Rescind, in Part

As explained in the Preliminary Decision Memorandum, Commerce finds that RTVN had no suspended entries of subject merchandise and, therefore, pursuant to 19 CFR 351.213(d)(3), we intend to rescind the review with respect to RTVN.

Methodology

Commerce is conducting this review in accordance with sections 751(a)(1)(B) and (2) of the Act. For a full description of the methodology underlying these preliminary results, see the Preliminary Decision Memorandum.

Preliminary Results of the Review

We preliminarily determine the following estimated weighted-average dumping margin for the period May 1, 2022, through April 30, 2023:

Exporter or producer | Weighted-average dumping margin (percent)
Maithan Alloys Limited | 1.71

Disclosure and Public Comment

Commerce intends to disclose its calculations performed to interested parties for these preliminary results within five days of any public announcement or, if there is no public announcement, within five days of the date of publication of this notice in the Federal Register in accordance with 19 CFR 351.224(b).

Case briefs or other written comments may be submitted to the Assistant Secretary for Enforcement and Compliance.⁷ Commerce will notify interested parties of the deadline for submission of case briefs. Rebuttal briefs, limited to issues raised in the case briefs, may be filed not later than five days after the date for filing case briefs.⁸ Interested parties who submit case briefs or rebuttal briefs in this proceeding must submit: (1) a table of contents listing each issue; and (2) a table of authorities.⁹

⁷ See 19 CFR 351.309(c)(1)(ii); see also 19 CFR 351.303 for general filing requirements.

⁸ See 19 CFR 351.309(d); see also Administrative Protective Order, Service, and Other Procedures in Antidumping and Countervailing Duty Proceedings, 88 FR 67069, 67077 (September 29, 2023) (APO and Service Procedures).

⁹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁰ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹¹

¹⁰ We use the term “issue” here to describe an argument that Commerce would normally address in a comment of the Issues and Decision Memorandum.

¹¹ See APO and Service Procedures.

Pursuant to 19 CFR 351.310(c), interested parties who wish to request a hearing, limited to issues raised in the case and rebuttal briefs, must submit a written request to the Assistant Secretary for Enforcement and Compliance, U.S. Department of Commerce, filed electronically, using ACCESS. Hearing requests should contain the party's name, address, and telephone number, the number of participants, and a list of the issues to be discussed. Issues raised in the hearing will be limited to those raised in the case and rebuttal briefs. An electronically filed request must be received successfully in its entirety by ACCESS by 5:00 p.m. Eastern Time, within 30 days of the publication date of this notice. If a request for a hearing is made, parties will be notified of the time and date of the hearing.¹²

¹² See 19 CFR 351.310(d).

Final Results of Review

Unless the deadline is extended pursuant to section 751(a)(3)(A) of the Act and 19 CFR 351.213(h)(2), Commerce intends to issue the final results of this administrative review, including the results of its analysis of the issues raised by the parties in any written briefs, no later than 120 days after the date of publication of these preliminary results.

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

If MAL's weighted-average dumping margin is not zero or de minimis (i.e., less than 0.50 percent) in the final results of this review, Commerce intends to calculate importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.¹³ To determine whether an importer-specific, per-unit assessment rate is de minimis, in accordance with 19 CFR 351.106(c)(2), we also will calculate an importer-specific ad valorem ratio based on estimated entered values. If MAL's weighted-average dumping margin is zero or de minimis or where an importer-specific ad valorem assessment rate is zero or de minimis, we will instruct CBP to liquidate appropriate entries without regard to antidumping duties.¹⁴

¹³ See 19 CFR 351.212(b)(1).

¹⁴ See 19 CFR 351.106(c)(2); see also Antidumping Proceeding: Calculation of the Weighted-Average Dumping Margin and Assessment Rate in Certain Antidumping Proceedings; Final Modification, 77 FR 8101, 8103 (February 14, 2012).

In accordance with Commerce's “automatic assessment” practice, for entries of subject merchandise during the POR produced by MAL for which it did not know that the merchandise was destined for the United States, we intend to instruct CBP to liquidate those entries at the all-others rate in the original less-than-fair-value investigation (i.e., 17.74 percent) if there is no rate for the intermediate company(ies) involved in the transaction.¹⁵

¹⁵ For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the date of publication of the final results of this administrative review, as provided for by section 751(a)(2)(C) of the Act: (1) the company-specific cash deposit rate for MAL will be equal to the weighted-average dumping margin established in the final results of this review (except, if that rate is de minimis within the meaning of 19 CFR 351.106(c)(1), then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 17.74 percent, the all-others rate established in the less-than-fair-value investigation.¹⁶ These cash deposit requirements, when imposed, shall remain in effect until further notice.

¹⁶ See Order, 86 FR at 7530.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h)(2) and 351.221(b)(4).

Dated: May 23, 2024.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Intent to Rescind, In Part

V. Affiliation and Collapsing

VI. Discussion of the Methodology

VII. Currency Conversion

VIII. Recommendation

[FR Doc. 2024-12743 Filed 6-10-24; 8:45 am]

BILLING CODE 3510-DS-P